NUCLEAR REGULATORY COMMISSION

[Docket No. 40-8838-MLA; ASLBP No. 00-776-04-MLA]

Atomic Safety and Licensing Board; In the Matter of U.S. Army (Jefferson Proving Ground Site); Notice (Notice of Opportunity To Make Oral or Written Limited Appearance Statements)

June 6, 2006.

Before Administrative Judges: Alan S. Rosenthal, Chairman, Dr. Paul B. Abramson, and Dr. Richard F. Cole.

This proceeding involves the application submitted by the Department of the Army for an amendment to its NRC materials license (License No. SUB-1435). The amendment would authorize an alternate schedule for the submittal to the NRC Staff of a decommissioning plan for Licensee's Jefferson Proving Ground (JPG) site located in Madison, Indiana. Such a plan is required because there is currently amassed on that site a considerable quantity of depleted uranium (DU) munitions, the result of the Licensee's conduct, between 1984 and 1994 and under the auspices of the NRC materials license, of accuracy testing of DU tank penetration rounds. On February 2, 2006, this Atomic Safety and Licensing Board granted a petition to intervene and request for hearing filed by Save the Valley, Inc., and deferred any hearing pending the completion of the NRC Staff's technical review. LBP-06-06, 63 NRC 167, 185-86. On April 27, 2006, after completion of its technical review, the NRC Staff issued the requested license amendment. As a consequence, on May 1, the proceeding was restored to fully active status. Licensing Board Memorandum and Order (Scheduling Further Proceedings) (May 1, 2006) (unpublished). This Atomic Safety and Licensing Board hereby gives notice that, in accordance with 10 CFR 2.315(a), the Board will entertain oral limited appearance statements from members of the public in connection with this proceeding.

A. Date, Time, and Location of Oral Limited Appearance Statement Session

The session will be held on the following date at the specified location and time:

Date: Tuesday July 18, 2006.

Time: 6:30 p.m. to 8:30 p.m.

Location: Madison-Jefferson County Public Library, 420 W. Main Street, Madison, Indiana 47250. (812) 265-2744.

B. Participation Guidelines for Oral Limited Appearance Statements

Any person not a party, or the representative of a party, to the proceeding will be permitted to make an oral statement setting forth his or her position on matters of concern relating to this proceeding. Although these statements do not constitute testimony or evidence, they nonetheless might help the Board and/or the parties in their consideration of the issues in this proceeding.

Oral limited appearance statements will be entertained during the hours specified above, or such lesser time as might be necessary to accommodate the speakers who are present.¹ In this regard, if all scheduled and unscheduled speakers present at the session have made a presentation, the Licensing Board reserves the right to terminate the session before the ending time listed above. Any members of the public who wish to make an oral statement are advised to be present at the limited appearance session at precisely 6:30 p.m. The time allotted for each statement normally will be no more than five (5) minutes, but may be further limited depending on the number of written requests to make an oral statement that are submitted in accordance with Section C below and/or the number of persons present at the designated time.

¹ During the limited appearance session signs no larger than 18″ by 18″ will be permitted, but may not be attached to sticks, held up, or moved about in the room.

C. Submitting a Request To Make an Oral Limited Appearance Statement

Persons wishing to make an oral statement who have submitted a timely written request to do so will be given priority over those who have not filed such a request. To be considered timely, a written request to make an oral statement must either be mailed, faxed, or sent by e-mail so as to be received by 5 p.m. EDT on Friday, July 7, 2006. Written requests to make an oral statement should be submitted to:

Mail: Office of the Secretary, Rulemakings and Adjudications Staff, U.S. Nuclear Regulatory Commission, Washington, DC 20555-0001.

Fax: (301) 415-1101 (verification (301) 415-1966).

E-mail: hearingdocket@nrc.gov.

In addition, using the same method of service, a copy of the written request to make an oral statement should be sent to the Chairman of this Licensing Board as follows:

Mail: Administrative Judge Alan S. Rosenthal, c/o: Debra Wolf, Esq., Law Clerk, Atomic Safety and Licensing Board Panel, Mail Stop T-3 F23, U.S. Nuclear Regulatory Commission, Washington, DC 20555-0001.

Fax: (301) 415-5599 (verification (301) 415-6094).

E-mail: daw1@nrc.gov.

D. Submitted Written Limited Appearance Statements

A written limited appearance statement may be submitted to the Board regarding this proceeding at any time, either in lieu of or in addition to any oral statement. Such statements should be sent to the Office of the Secretary using the methods prescribed above, with a copy to the Licensing Board Chairman.

E. Availability of Documentary Information Regarding the Proceeding

Documents relating to this proceeding are available for public inspection at the Commission's Public Document Room (PDR), located at One White Flint North, 11555 Rockville Pike (first floor), Rockville, Maryland, or electronically from the publicly available records component of NRC's document system (ADAMS). ADAMS is accessible from the NRC Web site at http://www.nrc.gov/reading-rm/adams.html (Electronic Reading Room). Persons who do not have access to ADAMS or who encounter problems in accessing the documents located in ADAMS should contact the NRC PDR reference staff by telephone at (800) 397-4209 or (301) 415-4737, or by e-mail to pdr@nrc.gov.

F. Scheduling Information Updates

Any updated/revised scheduling information regarding the limited appearance session can be found on the NRC Web site at http://www.nrc.gov/public-involve/public-meetings/index.cfm or by calling (800) 368-5642, extension 5036, or (301) 415-5036.

Dated June 6, 2006, in Rockville, Maryland.
For the Atomic Safety and Licensing Board.²
² Copies of this Notice were sent this date by Internet electronic mail transmission to counsel for the parties.
Alan S. Rosenthal,
Chairman, Administrative Judge.

[FR Doc. E6-9060 Filed 6-9-06; 8:45 am]

BILLING CODE 7590-01-P